DEPARTMENT OF VETERANS AFFAIRS

[OMB Control No. 2900-0045]

Agency Information Collection Activity Under OMB Review: Request for Determination of Reasonable Value Real Estate

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden, and it includes the actual data collection instrument.

DATES: Comments and recommendations for the proposed information collection should be sent by January 16, 2025.

ADDRESSES: To submit comments and recommendations for the proposed information collection, please type the following link into your browser: www.reginfo.gov/public/do/PRAMain, select “Currently under Review—Open for Public Comments”, then search the list for the information collection by Title or “OMB Control No. 2900-0045.”

FOR FURTHER INFORMATION CONTACT: VA PRA information: Maribel Aponte, 202-461-8900, vacopaperworkreduact@va.gov.

SUPPLEMENTARY INFORMATION:

Title: Request for Determination of Reasonable Value Real Estate (VA Forms 26-1805, and 26-1805-1).

OMB Control Number: 2900-0045 https://www.reginfo.gov/public/do/PRASearch.

Type of Review: Revision of a currently approved collection.

Abstract: VA utilizes Form 26-1805 (paper form) and 26-1805-1 (digital form) for lenders to request an appraisal and assign an appraiser (i.e., “ordering” an appraisal), which ultimately provides the appraiser with the authority to be on the property to conduct the appraisal (i.e., an engagement letter). This information collection request seeks to expand this data collection clearance to encompass a modernized, end-to-end appraisal management process. Under this ICR extension, VA will capture information from lenders around when an appraisal has been ordered (current VA Form 26-1805), but will also capture information and workflow associated with the assignment, scheduling, and review of an appraisal by VA or a lender. This process will be consistent with the rest of the mortgage industry, and will align VA's appraisal process with the industry standard.

An agency may not conduct or sponsor, and a person is not required to respond to a collection of information unless it displays a currently valid OMB control number. The Federal Register Notice with a 60-day comment period soliciting comments on this collection of information was published at 89 FR 82304, October 10, 2024.

Affected Public: Individuals or Households.

Estimated Annual Burden: 467,100.

Estimated Average Burden per Respondent: 12 minutes.

Frequency of Response: One-time per appraisal.

Estimated Number of Respondents: 519,000.

Authority: 44 U.S.C. 3501 et seq.

Maribel Aponte,
VA PRA Clearance Officer, Office of Enterprise and Integration, Data Governance Analytics, Department of Veterans Affairs.

[FR Doc. 2024-29659 Filed 12-16-24; 8:45 am]

BILLING CODE 8320-01-P